DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southwest Region Permit Family of Forms.

OMB Control Number: 0648-0204.

Form Number(s): None.

Type of Request: Regular submission.

Number of Respondents: 1,829.

Average Hours per Response: HMS permit applications, 30 minutes; renewals, 6 minutes; coastal pelagic permit renewals, 15 minutes (no new permit applications); transfers, 30 minutes; appeals, 2 hours.

Burden Hours: 139.

Needs and Uses: The Magnuson-Stevens Fishery Conservation and Management Act (Magnuson-Stevens Act) established regional fishery management councils, including the Pacific Fishery Management Council (Pacific Council), to develop fishery management plans (FMP) for fisheries in the U.S. exclusive economic zone (EEZ). The Pacific Council has prepared a FMP for the coastal pelagic species (CPS) fishery off the U.S. West Coast and for U.S. West Coast Fisheries for Highly Migratory Species. Each of these FMPs contain a requirement that commercial fishery participants obtain permits for the fishery. This request deals with the continuing information collection requirements for permits: Basic fishery permits (e.g., highly migratory species (HMS)), limited entry permits for selected fisheries (e.g., West Coast coastal pelagic fishery), and experimental fishing permits (EFP).

Affected Public: Business or other for-profit organizations.

Frequency: Annually and biannually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: February 22, 2010.
Gwellnar Banks,
Management Analyst, Office of the Chief Information Officer.

[FR Doc. 2010-3885 Filed 2-24-10; 8:45 am]

BILLING CODE 3510-22-P